DEPARTMENT OF AGRICULTURE

Forest Service

Northeast Oregon Forests Resource Advisory Committee (RAC)

AGENCY: Forest Service, USDA.

ACTION: Notice of meeting.

SUMMARY: Pursuant to the authorities in the Federal Advisory Committees Act (Public Law 92-463), the Northeast Oregon Forests Resource Advisory Committee (RAC) will meet on February 14-15, 2002 in John Day, Oregon. The purpose of the meeting is to meet as a Committee for the first time and to discuss the selection of Title II projects under Public Law 106-393, H.R. 2389, the Secure Rural Schools and Community Self-Determination Act of 2000, also called the “Payments to States” Act.

DATES: The meeting will be held on February 14 from 9:30 a.m. to 4 p.m. and February 15, 2002 from 8 a.m. until 2 p.m.

ADDRESSES: The meeting will be held in Juniper Hall, at the Malheur National Forest Headquarters Office located at 431 Patterson Bridge Road, John Day, Oregon.

FOR FURTHER INFORMATION CONTACT: Bonnie Wood, Designated Federal Official, USDA, Malheur National Forest, PO Box 909, John Day, Oregon 97845. Phone: (541) 575-3100.

SUPPLEMENTARY INFORMATION: This will be the first meeting of the committee, and will focus on meeting other RAC members, becoming familiar with duties and responsibilities, selecting a chairperson, and reviewing Title II project proposals for funding under Public Law 106-393, H.R. 2389, the Secure Rural Schools and Community Self-Determination Act of 2000. The meeting is open to the public. A public input opportunity will be provided, and individuals will have the opportunity to address the committee at that time.

Dated: January 18, 2002.
William T. Supulski II,
Ecosystem Staff Officer.

[FR Doc. 02-1843 Filed 1-24-02; 8:45 am]

BILLING CODE 3410-DK-M